DEPARTMENT OF HOMELAND SECURITY

Coast Guard

33 CFR Part 117

[CGD08-05-030]

RIN 1625-AA09

Drawbridge Operation Regulation; White River, Augusta, AR

AGENCY: Coast Guard, DHS.

ACTION: Notice of temporary deviation from regulations.

SUMMARY: The Commander, Eighth Coast Guard District has issued a temporary deviation from the regulation governing the operation of the Missouri Pacific Railroad Bridge, Mile 196.3, Augusta, Arkansas across the White River. This deviation allows the bridge to remain in the closed-to-navigation position for 7 days from 7 a.m., June 20, 2005, until 7 p.m., June 26, 2005. The deviation is necessary to allow time for making repairs to mechanical components essential to the continued safe operation of the drawbridge.

DATES: This temporary deviation is effective from 7 a.m., June 20, 2005, until 7 p.m., June 26, 2005.

ADDRESSES: Materials referred to in this document are available for inspection or copying at Room 2.107F in the Robert A. Young Federal Building, 1222 Spruce Street, St. Louis, MO 63103-2832, between 8 a.m. and 4 p.m., Monday through Friday, except Federal holidays. The Bridge Administration Branch maintains the public docket for this temporary deviation.

FOR FUTHER INFORMATION CONTACT: Roger K. Wiebusch, Bridge Administrator, (314) 539-3900, extension 2378.

SUPPLEMENTARY INFORMATION: The Union Pacific Railroad requested a temporary deviation to allow time to conduct repairs to the Missouri Pacific Railroad Bridge, mile 196.3, at Augusta, Arkansas across the White River. The Missouri Pacific Railroad Bridge currently operates in accordance with 33 CFR 117.139(b), which requires the drawbridge to open on signal if at least eight hours notice is given. In order to facilitate required bridge maintenance, the bridge must be kept in the closed-to-navigation position. This deviation allows the drawbridge to remain in the closed-to-navigation position for 7 days from 7 a.m., June 20, 2005, until 7 p.m., June 26, 2005. There are no alternate routes for vessels transiting this section of the White River.

The Missouri Pacific Railroad Bridge, in the closed-to-navigation position, provides a vertical clearance of approximately 32 feet above mean low water. Navigation on the waterway consists of some commercial tows during the navigation season and mostly recreational watercraft. This deviation has been coordinated with waterway users. No objections were received.

In accordance with 33 CFR 117.35(c), this work will be performed with all due speed in order to return the bridge to normal operation as soon as possible. This deviation from the operating regulations is authorized under 33 CFR 117.35.

Dated: May 24, 2005.
Roger K. Wiebusch,
Bridge Administrator.

[FR Doc. 05-10942 Filed 6-1-05; 8:45 am]

BILLING CODE 4910-15-P